DEPARTMENT OF TRANSPORTATION

Federal Aviation Administration

Notice of Intent of Waiver With Respect to Land; French Lick Municipal Airport, French Lick, IN

AGENCY: Federal Aviation Administration (FAA), DOT.

ACTION: Notice.

SUMMARY: The FAA is considering a proposal to change 18.23 Acres of airport land from aeronautical use to non-aeronautical use and to authorize the sale of airport property located at French Lick Municipal Airport, French Lick, IN. The aforementioned land is not needed for aeronautical use. The current county road adjacent to the subject property was constructed on previous airport property sold by the Airport to Orange County; however, due to unforeseen geological conditions, the road has failed multiple times. As a corrective action, Orange County, in partnership with the Indiana Department of Transportation seek to realign a portion of the road to a location to avoid the region with the geologic issues. In order to facilitate this realignment, the Airport was approached with a second request to transfer additional land to Orange County. This land is located on the opposite side of the new road that was recently constructed and is not contiguous with the airport land that supports aeronautical use. Therefore, the French Lick Municipal Airport Board of Aviation Commissioners (BOAC) would like to release 18.23 acres of land to the Orange County Commissioners, for the purpose of allowing Orange County to construct a realigned County Road 300 South.

DATES: Comments must be received on or before September 26, 2022.

ADDRESSES: Documents are available for review by appointment at the FAA Chicago Airports District Office, Joseph D. Wejman, Program Manager, 2300 East Devon Avenue, Des Plaines, Illinois, 60018. Telephone: (847) 294-7526/Fax: (847) 294-7046. and Matthew Carson, Airport Manager, 9764 West County Road 375 South, French Lick, IN 47432. Telephone: (812) 936-2222/Fax: (812) 936-3134.

Written comments on the Sponsor's request must be delivered or mailed to: Joseph D. Wejman, Program Manager, Federal Aviation Administration, Chicago Airports District Office, 2300 East Devon Avenue, Des Plaines, Illinois 60018. Telephone Number: (847) 294-7526/FAX Number: (847) 294-7046.

FOR FURTHER INFORMATION CONTACT: Joseph D. Wejman, Program Manager, Federal Aviation Administration, Chicago Airports District Office, 2300 East Devon Avenue, Des Plaines, Illinois 60018. Telephone Number: (847) 294-7526/FAX Number: (847) 294-7046.

SUPPLEMENTARY INFORMATION: In accordance with section 47107(h) of Title 49, United States Code, this notice is required to be published in the Federal Register 30 days before modifying the land-use assurance that requires the property to be used for an aeronautical purpose.

The subject land is part of two parcels. Parcel 1 was acquired fee simple by the French Lick Board of Aviation Commissioners from a private owner with the assistance of federal funds under Federal Aid to Airport Program Project No. 9-12-041-6301 in 1963. The subject sub-parcels (1, 1A and 1B) within Parcel 1 total approximately 10.209 acres. Parcel 2 was acquired fee simple by the French Lick BOAC from a private owner with the assistance of federal funds under Airport Improvement Program (AIP) grant number 3-18-0027-08 in 2010. The subject sub-parcel (2) is approximately 8.021 acres. The Sponsor is seeking FAA approval for release of land covenants associated with fee simple ownership to provide right of way for the Orange County Commissioners to re-align and re-construct County Road CR 300 South/Airport Road that will provide a safe roadway that meets current roadway design standards. The aforementioned land is not needed for aeronautical use, as shown on the Airport Layout Plan. There are no impacts to the airport by allowing the airport to dispose of the property. No cash proceeds are expected as a result of the land release. The combined Fair Market Value of the parcels to be released is appraised at $73,085. The FMV received for the parcels will come in the form of excess materials (soil/fill) from the county road project that will be stockpiled on airport property for its ultimate use for an upcoming apron expansion project at French Lick Municipal Airport. Based on an engineering analysis that looked at the quality and dollar value of the fill, its value far exceeds the appraised value of the land parcels being released to Orange County for the relocated County Road CR 300/Airport Road. This in-kind project material value benefits the Airport and since it exceeds the estimated value of the land to be released.

The disposition of proceeds from the sale of the airport property will be in accordance with FAA's Policy and Procedures Concerning the Use of Airport Revenue, published in the Federal Register on February 16, 1999 (64 FR 7696).

This notice announces that the FAA is considering the release of the subject airport property at the French Lick Municipal Airport, French Lick, Indiana from federal land covenants, subject to a reservation for continuing right of flight as well as restrictions on the released property as required in FAA Order 5190.6B section 22.16. Approval does not constitute a commitment by the FAA to financially assist in the disposal of the subject airport property nor a determination of eligibility for grant-in-aid funding from the FAA.

Land Description

Sub-Parcel 1

A part of the Northeast Quarter of the Southwest Quarter of Section 21, Township 1 North, Range 2 West, French Lick Township, Orange County, Indiana, and being that part of the grantor(s) land lying within the right-of-way lines depicted on the attached Right-of-Way Parcel Plat, marked EXHIBIT “B”, described as follows: Commencing at the northeast corner of said quarter section designated as point “422” on said Parcel Plat; thence South 1 degree 18 minutes 58 seconds East 1,332.46 feet along the east line of said southwest quarter section to the southwest corner of said quarter-quarter section designated as point “402” on said Parcel Plat; thence South 89 degrees 02 minutes 26 seconds West 524.33 feet along the north line of said quarter-quarter section to the western boundary of Airport Road as defined in Instrument Number 193232; thence North 10 degrees 51 minutes 16 seconds East 8.01 feet along said western boundary; thence along said western boundary Northerly 88.52 feet along an arc to the left having a radius of 550.00 feet and subtended by a long chord having a bearing of North 6 degrees 14 minutes 37 seconds East and a length of 88.43 feet to the point designated as “1000” on said Parcel Plat and the POINT OF BEGINNING of this description: thence North 12 degrees 28 minutes 00 seconds West 137.56 feet to the point designated “1001” on said Parcel Plat; thence North 27 degrees 51 minutes 52 seconds West 154.16 feet to the point designated “1002” on said Parcel Plat; thence North 13 degrees 45 minutes 17 seconds West 124.79 feet to the point designated “1003 ” on said Parcel Plat; thence North 3 degrees 10 minutes 59 seconds East 192.36 feet to the western boundary of said Airport Road designated as point “1004” on said Parcel Plat; thence along the western boundary the following (4) courses: 1) South 14 degrees 52 minutes 36 seconds East 211.97 feet; 2) South 2 degrees 45 minutes 07 seconds West 52.50 feet; 3) South 16 degrees 37 minutes 15 seconds East 175.97 feet to the Pls; 4) Southerly 159.59 feet along an arc to the right having a radius of 550.00 feet and subtended by a long chord having a bearing of South 6 degrees 40 minutes 48 seconds East and a length of 159.03 feet to the POINT OF BEGINNING and containing 0.422 acres, more or less.

Sub-Parcel 1A

A part of the Northeast Quarter of the Southwest Quarter of Section 21, Township 1 North, Range 2 West, French Lick Township, Orange County, Indiana, and being that part of the grantor(s) land lying within the right-of-way lines depicted on the attached Right-of-Way Parcel Plat, marked EXHIBIT “B”, described as follows: BEGINNING on the east line of said quarter section at a point South 1 degree 18 minutes 58 seconds East 184.62 feet from the northeast corner of said quarter section designated as point “422” on said Parcel Plat, which point is on the eastern boundary of Airport Road as defined in Instrument Number 193232; thence continuing South 1 degree 18 minutes 58 seconds East 306.00 feet along the east line of said quarter section to the point designated “1008” on said Parcel Plat; thence South 83 degrees 52 minutes 36 seconds West 276.46 feet to the point designated “1007” on said Parcel Plat; thence South 22 degrees 47 minutes 35 seconds West 318.85 feet to the point designated “1006” on said Parcel Plat; thence South 1 degree 18 minutes 07 seconds West 271.68 feet to the eastern boundary of said Airport Road designated as point “1005” on said Parcel Plat; thence along the eastern boundary of said Airport Road the following (6) courses: (1) Northerly 26.31 feet along an arc to the left having a radius of 655.00 feet and subtended by a long chord having a bearing of North 13 degrees 50 minutes 31 seconds West and a length of 26.31 feet; (2) North 14 degrees 59 minutes 34 seconds West 414.56 feet; (3) Northerly 316.68 feet along an arc to the right having a radius of 390.00 feet and subtended by a long chord having a bearing of North 8 degrees 16 minutes 10 seconds East and a length of 308.05 feet; (4) North 74 degrees 46 minutes 47 seconds East 244.25 feet; (5) North 64 degrees 32 minutes 17 seconds East 236.60 feet; (6) North 76 degrees 12 minutes 52 seconds East 18.00 feet to the POINT OF BEGINNING and containing 4.070 acres, more or less.

Sub-Parcel 1B

A part of the South Half of the Northeast Quarter of Section 21, Township 1 North, Range 2 West, French Lick Township, Orange County, Indiana, and being that part of the grantor(s) land lying within the right-of-way lines depicted on the attached Right-of-Way Parcel Plat, marked EXHIBIT “B”, described as follows: BEGINNING on the south line of said quarter section at a point North 89 degrees 12 minutes 11 seconds East 686.92 feet from the southwest corner of said quarter section designated as point “422” on said Parcel Plat, which point is on the southern boundary of said Airport Road as defined in Instrument Number 193232; thence along the southern boundary of said Airport Road the following (7) courses: (1) North 58 degrees 51 minutes 47 seconds East 132.00 feet; (2) North 74 degrees 14 minutes 22 seconds East 406.73 feet; (3) Easterly 662.21 feet along an arc to the right having a radius of 1,435.00 feet and subtended by a long chord having a bearing of North 87 degrees 27 minutes 35 seconds East and a length of 656.35 feet; (4) South 86 degrees 24 minutes 29 seconds East 202.61 feet; (5) South 79 degrees 19 minutes 12 seconds East 50.00 feet; (6) South 65 degrees 39 minutes 32 seconds East 148.19 feet; (7) South 10 degrees 40 minutes 47 seconds West 105.36 feet (105.44 feet by Instrument Number 193232 to the south line of said quarter section; thence South 89 degrees 12 minutes 11 seconds West 1,527.12 feet along said south line to the POINT OF BEGINNING and containing 5.717 acres, more or less.

Sub-Parcel 2

A part of the North Half of the Southeast Quarter of Section 21, Township 1 North, Range 2 West, French Lick Township, Orange County, Indiana, and being that part of the grantor(s) land lying within the right-of-way lines depicted on the attached Right-of-Way Parcel Plat, marked EXHIBIT “B”, described as follows: BEGINNING at the intersection of the southern boundary of Airport Road as defined in Instrument Number 193231 and the west line of said quarter section, which point is located South 1 degree 18 minutes 58 seconds East 184.62 feet of the northwest corner of said quarter section designated as point “422” on said Parcel Plat; thence along the southern boundary of said Airport Road the following (4) courses: (1) North 76 degrees 12 minutes 52 seconds East 184.58 feet (183.09 feet by Instrument Number 193231); (2) South 89 degrees 58 minutes 51 seconds East 210.41 feet (210.96 feet by Instrument Number 193231); (3) North 85 degrees 32 minutes 57 seconds East 50.99 feet (50.64 feet by Instrument Number 193231); (4) North 58 degrees 51 minutes 47 seconds East 282.85 feet (282.44 feet by Instrument Number 193231); to the north line of said quarter section; thence North 89 degrees 12 minutes 11 seconds East 1,210.67 feet along said north line to the easternmost corner of the grantor(s) land designated as point “1010” on said Parcel Plat; thence South 75 degrees 36 minutes 52 seconds West 1,947.97 feet along the southern line of the grantor(s) land to the west line of said quarter section designated as point “1009” on said Parcel Plat; thence North 1 degree 18 minutes 58 seconds West 273.07 feet along said west line to the POINT OF BEGINNING and containing 8.021 acres, more or less.

Issued in Des Plaines, Illinois, on August 19, 2022.
Debra L. Bartell,
Manager, Chicago Airports District Office, FAA, Great Lakes Region.

[FR Doc. 2022-18379 Filed 8-25-22; 8:45 am]

BILLING CODE 4910-13-P